POSTAL SERVICE

39 CFR Part 20

Nonmailable Items Prohibited in All Outbound International Mail—Update

AGENCY: Postal Service™.

ACTION: Final rule.

SUMMARY: The Postal Service is revising and adding new standards which codify that replica and inert explosive devices, and counterfeit and pirated items are nonmailable in outbound international mail.

DATES: Effective Date: January 4, 2010.

FOR FURTHER INFORMATION CONTACT: Rick Klutts, 813-877-0372.

SUPPLEMENTARY INFORMATION: Consistent with Proposals 20.15.2 and 20.15.6—adopted by the 24th Congress of the Universal Postal Union (UPU) in Geneva Switzerland on July 23-August 12, 2008,—that amend Article 15 of the UPU Convention, we are revising Mailing Standards of the United States Postal Service, International Mail Manual (IMM®) to make replica and inert explosive devices and counterfeit and pirated items nonmailable.

Replica and Inert Explosive Devices

Consistent with Proposal 20.15.2, this prohibition is intended to apply to devices that were originally designed for military or combat use (including training) and is also extended to replicas of such items. Specific items include replica and inert explosive devices and military ordnance, such as grenades, ammunition, shells and the like.

This prohibition does not extend to items such as children's toys or articles that do not represent such items in a realistic manner.

Counterfeit or Pirated Articles

Consistent with UPU Proposal 20.15.6, this prohibition is intended to reduce the circulation of counterfeit and pirated articles between UPU members. The prohibition also illustrates that the UPU's members actively support the World Customs Organization's current campaign to thwart production and circulation of counterfeited and pirated products, such as dangerous toys and electrical items, dangerous counterfeit medicines and counterfeit branded goods, which do economic harm to domestic and international companies.

List of Subjects in 39 CFR Part 20

Foreign relations, International postal services.

Accordingly, 39 CFR part 20 is amended as follows:

PART 20—[AMENDED]

1. The authority citation for 39 CFR part 20 is revised to read as follows:

Authority: 5 U.S.C. 552(a); 13 U.S.C. 301-307; 39 U.S.C. 101, 401, 403, 404, 407, 408, 414, 416, 3001-3011, 3201-3219, 3403-3406, 3621, 3622, 3626, 3632, 3633, and 5001.

2. Revise the following sections of Mailing Standards of the United States Postal Service, International Mail Manual (IMM) as follows:

Mailing Standards of the United States Postal Service, International Mail Manual (IMM)

1 International Mail Services

* * * * *

130 Mailability International Mail Services

* * * * *

[Revise 136 in its entirety as follows:]

* * * * *

136 Nonmailable Goods

136.1 Dangerous Goods

The following dangerous goods (hazardous materials, as defined in DMM 601) are prohibited in outbound international mail:

a. Explosives or explosive devices.

b. Flammable materials.

1. Pyrophoric, flammable, or combustible liquids with a closed cup flash point below 200 °F.

2. Flammable solids, including matches.

c. Oxidizers.

d. Corrosives, liquid or solid.

e. Compressed gases.

1. Flammable.

2. Nonflammable with an absolute pressure exceeding 40 psi at 70 °F or 104 psi at 130 °F.

f. Poisons, irritants, controlled substances, and drug paraphernalia.

g. Magnetized material with a magnetic field strength of .002 gauss or more at a distance of 7 feet.

h. Dry ice (carbon dioxide solid).

136.2 Replica and Inert Explosive Devices

The following types of replica or inert explosive devices are prohibited in outbound international mail:

1. Military ordnance, ammunition, and shells.

2. Grenades.

3. Similar devices that were originally designed for military or combat use (including training).

This prohibition does not extend to items such as children's toys or articles that do not represent such items in a realistic manner.

136.3 Counterfeit and Pirated Items

Any type of counterfeit or pirated article is prohibited in outbound international mail.

* * * * *

Neva R. Watson,
Attorney, Legislative.

[FR Doc. E9-25363 Filed 10-21-09; 8:45 am]

BILLING CODE 7710-12-P